DEPARTMENT OF COMMERCE

National Oceanic and Atmospheric Administration

[I.D. 101304A]

Proposed Information Collection; Comment Request; Northeast (NE) Multispecies Framework Adjustment 40-A Logbook Information Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 17, 2004,

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Douglas W. Christel, National Marine Fisheries Service, 1 Blackburn Drive, Gloucester, MA 01930; telephone: 978-281-9141.

SUPPLEMENTARY INFORMATION:

I. Abstract

The proposed rule for Framework Adjustment 40-A (Framework 40-A) to the NE Multispecies Fishery Management Plan (FMP) was published in the Federal Register on September 14, 2004 (69 FR 55388). Framework 40-A was developed by the New England Fishery Management Council (Council) to provide additional opportunities for vessels in the fishery to target relatively healthy stocks of groundfish in order to mitigate the economic and social impacts resulting from the effort reductions promulgated by Amendment 13 to the NE Multispecies FMP (69 FR 22906, April 27, 2004), and to harvest groundfish stocks at levels that approach optimum yield. Framework 40-A proposes to create three programs to allow vessels to use Category B Days-at-Sea (DAS) (both Regular and Reserve) to target healthy stocks: (1) Regular B DAS Pilot Program; (2) Closed Area I Hook Gear Haddock Special Access Program (SAP); and (3) Eastern U.S./Canada Haddock SAP Pilot Program.

In addition, Framework 40-A proposes to relieve an Amendment 13 restriction that currently prohibits vessels from fishing both in the Western U.S./Canada Area, and outside that area on the same trip.

The information collection for the provisions relating to logbook requirements within Framework 40-A was approved by the Office of Management and Budget in an emergency clearance submission on September 22, 2004. This information collection submission included daily catch reports for vessels participating in the Category B (regular) DAS Pilot Program or fishing on combined trips in the Western U.S./Canada Area and outside of the area. This submission also included daily catch reports for vessels that are not participating in the Georges Bank (GB) Cod Hook Sector and that would be fishing in the Closed Area I Hook Gear Haddock SAP. Daily catch reports for vessels participating in the Eastern U.S./Canada Area Haddock SAP Pilot Program were previously considered and approved under the information collection submitted for Amendment 13.

II. Method of Collection

Catch reports for vessels participating in the above programs proposed in Framework 40-A would be required to be submitted on a daily basis. In addition, for those vessels participating in the Closed Area I Hook Gear Haddock SAP or fishing on a combined trip into the Western U.S./Canada Area, vessels would also be required to submit a catch report when entering or exiting each area. The catch reports would be required to be submitted using the vessel monitoring system (VMS) aboard each vessel. Reporting this information via VMS is required to monitor the catches of regulated multispecies so that the incidental catch hard total allowable catches (TACs) associated with the U.S./Canada Resource Sharing Agreement for GB cod, GB haddock, or GB yellowtail flounder, and the incidental catch TACs for species of concern proposed in Framework 40-A, would not be exceeded. These data would also be used in biological analyses and stock assessments, regulatory impact analyses, quota allocation selections and monitoring, economic profitability profiles, and analysis of ecological interactions among species.

III. Data

OMB Number: 0648-0502.

Form Number: None.

Type of Review: Regular submission.

Affected Public: Business or other for profit organizations; and individuals or households.

Estimated Number of Respondents: 997.

Estimated Time Per Response: Each catch report is expected to take approximately 15 minutes (0.25 hours) per submission.

Estimated Total Annual Burden Hours: 2,533.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and

(d) ways to minimize the burden of the collection of information on respondents, including through the use of automated collection techniques or other forms of information technology.

Comments submitted in response to this notice will be summarized and/or included in the request for OMB approval of this information collection; they also will become a matter of public record.

Dated: October 12, 2004.
Gwellnar Banks,
Management Analyst, Office of the Chief Information Officer.

[FR Doc. 04-23287 Filed 10-15-04; 8:45 am]

BILLING CODE 3510-22-S